DEPARTMENT OF THE TREASURY

Submission for OMB Review; Comment Request

April 6, 2011.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue, NW., Suite 11010, Washington, DC 20220.

Dates: Written comments should be received on or before May 12, 2011 to be assured of consideration.

Alcohol and Tobacco Tax and Trade Bureau (TTB)

OMB Number: 1513-0069.

Type of Review: Extension without change of a currently approved collection.

Title: Tobacco Products Manufacturers—Supporting Records for Removals for the Use of the United States.

Abstract: Tobacco products and cigarette papers and tubes are taxed under the Internal Revenue Code of 1986, as amended. These items can be removed without the payment of tax if they are for the use of the United States. In order to safeguard taxes, tobacco products manufacturers are required to maintain a system of records designed to establish accountability over the tobacco products and cigarette papers and tubes produced. Records must be retained by the manufacturer for 3 years following the close of the year covered therein and must be made available for inspection by any TTB officer upon his/her request.

Respondents: Private Sector: Businesses or other for-profits.

Estimated Total Burden Hours: 505 hours.

OMB Number: 1513-0128.

Type of Review: Extension without change of a currently approved collection.

Title: Records to Support Tax Free and Tax Overpayment Sales of Firearms and Ammunition.

Forms: TTB F 5600.33, 5600.34, 5600.35, 5600.36, and 5600.37.

Abstract: Industry members are required to maintain certain records in accordance with regulations. TTB offers forms that ensure that all of the information required by regulations is accounted for, when completed. The information collected on the forms serve as a record to justify the sales to exempt users, exportation, or use for further manufacture of articles.

Respondents: Private Sector: Businesses or other for-profits; State, Local, and Tribal Governments.

Estimated Total Burden Hours: 52,500 hours.

Clearance Officer: Gerald Isenberg, Alcohol and Tobacco Tax and Trade Bureau, Room 200 East, 1310 G Street, NW., Washington, DC 20005; (202) 453-2165.

OMB Reviewer: Shagufta Ahmed, Office of Management and Budget, New Executive Office Building, Room 10235, Washington, DC 20503; (202) 395-7873.

Dawn D. Wolfgang,
Treasury PRA Clearance Officer.

[FR Doc. 2011-8569 Filed 4-11-11; 8:45 am]

BILLING CODE 4810-31-P